DEPARTMENT OF TRANSPORTATION

Federal Railroad Administration

Petition for Waiver of Compliance

In accordance with part 211 of Title 49 Code of Federal Regulations (CFR), notice is hereby given that the Federal Railroad Administration (FRA) received a request for a waiver of compliance with certain requirements of its safety standards. The individual petition is described below, including the party seeking relief, the regulatory provisions involved, the nature of the relief being requested, and the petitioner's arguments in favor of relief.

Twin Cities and Western Railroad Company

[Docket Number FRA-2002-12113]

The Twin Cities and Western Railroad Company (TC&W) seeks relief for a temporary test waiver of compliance from Control Circuits requirements of the Grade Crossing Signal System Safety Standards, 49 CFR part 234, section 234.203, which requires that all control circuits that affect the safe operation of a highway-rail grade crossing warning system shall operate on the fail-safe principle. The waiver request is to permit TC&W and its project partners to develop, test and implement technology designed to activate highway-rail grade crossing warning devices. The fail-safe principle requires that such circuits shall operate so that the failure of any part or component shall cause the warning system to activate.

The application section of 234.203 states that a crossing warning system activated by means other than train detection track circuit may not comply with this section. TC&W contents that the system under development is designed to meet the spirit and intent of the fail-safe principle through a means other than track circuit based train detection, and the system operation is being examined in every mode of failure. The designed system will operate so that the failure of any part or component shall cause the warning system to activate or warn the train crew so that the train can be stopped before reaching the crossing. TC&W indicates the ability of the system to warn the train crew of a crossing failure is made possible by redundant radio based technology. TC&W states they fully intends to comply with the fail-safe intent of 234.203 and will provide regulatory authorities the opportunity to review the system, its design and test results, in order to determine if the fail-safe principle has been met.

Interested parties are invited to participate in these proceedings by submitting written views, data, or comments. FRA does not anticipate scheduling a public hearing in connection with these proceedings since the facts do not appear to warrant a hearing. If any interested party desires an opportunity for oral comment, they should notify FRA, in writing, before the end of the comment period and specify the basis for their request.

All communications concerning these proceedings should identify the appropriate docket number (e.g., Waiver Petition Docket Number FRA-2002-12113) and must be submitted to the Docket Clerk, DOT Central Docket Management Facility, Room PL-401, Washington, DC, 20590-0001. Communications received within 45 days of the date of this notice will be considered by FRA before final action is taken. Comments received after that date will be considered as far as practicable. All written communications concerning these proceedings are available for examination during regular business hours (9 a.m.-5 p.m.) at the above facility. All documents in the public docket are also available for inspection and copying on the Internet at the docket facility's Web site at http://dms.dot.gov.

Issued in Washington, DC, on May 29, 2002.
Grady C. Cothen, Jr.,
Deputy Associate Administrator for Safety Standards and Program Development.

[FR Doc. 02-14051 Filed 6-4-02; 8:45 am]

BILLING CODE 4910-06-P